DEPARTMENT OF HEALTH AND HUMAN SERVICES

National Institutes of Health

National Institute of General Medical Sciences; Amended Notice of Meeting

Notice is hereby given of a change in the meeting of the Biomedical Research and Research Training Review Subcommittee A, June 14, 2004, 8 a.m. to June 15, 2004, 6 p.m. Maggiano's 5333 Wisconsin, NW., Washington, DC 20015 which was published in the Federal Register on May 27, 2004, 69 FR 30327.

The meeting will be held on June 14, 2004. The meeting is closed to the public.

Dated: June 2, 2004.
LaVerne Y. Stringfield,
Director, Office of Federal Advisory Committee Policy

[FR Doc. 04-13095 Filed 6-9-04; 8:45 am]

BILLING CODE 4140-01-M